DEPARTMENT OF JUSTICE

Notice of Lodging of Consent Decree Under Comprehensive Environmental Response, Compensation and Liability Act

Under 28 CFR 50.7, notice is hereby given that on November 13, 2008, a proposed consent decree was lodged in United States v. The Berkshire Gas Company, No. 8-CV-30218, with the United States District Court for the District of Massachusetts.

The proposed Consent Decree resolves claims of the United States, on behalf of the Environmental Protection Agency (“EPA”), under the Comprehensive Environmental Response, Compensation, and Liability Act (“CERCLA”), 42 U.S.C. 9601 et seq., in connection with a stretch of the Housatonic River known as the 1½ Mile Reach in Pittsfield, Massachusetts (“Site”) against The Berkshire Gas Company (“Berkshire Gas”).

The proposed Consent Decree resolves the government's claims as alleged in the complaint against Berkshire Gas in exchange for payment of $2,699,199 to the United States. The proposed Consent Decree also resolves the claims of General Electric Company (“GE”) against Berkshire Gas for certain costs GE incurred at the 1 ½ Mile Reach. As set forth in a related settlement in United States v. General Electric Company, No. 99-CV-30225, the United States and GE agreed to share the cost of cleaning up the 1 ½ Mile Reach. Pursuant to the proposed Consent Decree, Berkshire Gas will reimburse GE and the United States for their respective shares of the cost of addressing coal tar contamination in the 1 ½ Mile Reach.

The proposed Consent Decree provides that Berkshire Gas is entitled to contribution protection as provided by Section 113(f)(2) of CERCLA, 42 U.S.C. 9613(f)(2) for matters addressed by the Consent Decree.

The Department of Justice will receive for a period of 30 days from the date of this publication comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to United States v. The Berkshire Gas Company, (D. MA.), Civ. No. 8-CV-30218, D.J. No. 90-11-3-09166. Commenters may request an opportunity for a public meeting in the affected area, in accordance with Section 7003(d) of RCRA, 42 U.S.C. 6973(d).

The proposed Consent Decree may be examined at the Office of the United States Attorney, District of Massachusetts, Federal Building and Courthouse, 1550 Main St., Room #310, Springfield, MA 01103. During the public comment period, the proposed Consent Decree may also be examined on the following Department of Justice Web site, http://www.usdoj.gov/enrd/Consent_Decrees.html. Copies of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree, please enclose a check in the amount of $5.50 (25 cent per page reproduction cost), payable to the U.S. Treasury.

Maureen Katz,
Assistant Section Chief, Environmental Enforcement Section, Environment and Natural Resources Division.

[FR Doc. E8-27352 Filed 11-18-08; 8:45 am]

BILLING CODE 4410-15-P